ENVIRONMENTAL PROTECTION AGENCY

[FRL-8329-3]

Workshop To Discuss Policy-Relevant Science To Inform EPA's Integrated Plan for the Review of the Primary Particulate Matter (PM) National Ambient Air Quality Standards (NAAQS)

AGENCY: Environmental Protection Agency (EPA).

ACTION: Notice of workshop.

SUMMARY: The EPA is announcing that a workshop entitled “Workshop to Discuss Policy-Relevant Science to Inform EPA's Integrated Plan for the Review of the Primary Particulate Matter National Ambient Air Quality Standards” is being organized by EPA's National Center for Environmental Assessment (NCEA), Office of Research and Development and EPA's Office of Air Quality Planning and Standards (OAQPS), Office of Air and Radiation. The workshop will be held on July 11 through 13, 2007 in Research Triangle Park, North Carolina. The workshop will be open to attendance by interested public observers on a first-come, first-served basis up to the limits of available space.

DATES: The workshop will be held on July 11, 12, and 13, 2007.

ADDRESSES: The workshops will be held at U.S. EPA, 109 T.W. Alexander Drive, Research Triangle Park, North Carolina. An EPA contractor, SAIC, is providing logistical support for the workshop. For further information on the workshops, contact Ms. Kristen Wheeler, SAIC Conference Coordinator, 11251 Roger Bacon Drive, Reston, VA 20190, telephone: 703-318-4535; facsimile: 703-318-4755; e-mail: wheelerkr@saic.com.

FOR FURTHER INFORMATION CONTACT: Questions regarding information, registration, and logistics for the workshop should be directed to the SAIC conference coordinator listed in ADDRESSES above.

Additional questions regarding the workshop should be directed to Ms. Beth Hassett-Sipple, U.S. EPA, OAQPS, telephone: 919-541-4605; facsimile: 919-541-0237; e-mail: hassett-sipple.beth@epa.gov or Dr. Lori White, U.S. EPA, NCEA, telephone: 919-541-3146; facsimile: 919-541-1818; e-mail: white.lori@epa.gov.

SUPPLEMENTARY INFORMATION:

I. Information About the Workshop

The Agency's last review of the particulate matter (PM) national ambient air quality standards (NAAQS) was completed in September 2006 with the promulgation of revisions to some aspects of the PM standards to provide requisite protection of public health and welfare (71 FR 61144). Initiating the next review of these standards at this time is consistent with the Clean Air Act's requirement that the Agency periodically review the latest scientific information and the standards. It is also consistent with the Agency's new NAAQS review process.¹ This workshop will provide an opportunity for external experts as well as EPA staff to highlight significant new and emerging PM research, and to make individual recommendations to the Agency regarding the design and scope of the review for the primary (health-based) PM standards ² to ensure that it addresses key policy-relevant issues and considers the new science relevant to informing our understanding of these issues.

¹ For more information on the NAAQS review process, please see http://www.epa.gov/ttn/naaqs/.

² A similar workshop to discuss planning for the review of the secondary (welfare-based) PM NAAQS will be held on July 16, 2007 in Research Triangle Park. Please see announcement elsewhere in today's Federal Register.

We intend that workshop discussions will build upon three prior publications or events: ³

³ Please see http://www.epa.gov/air/particlepollution/actions.html to obtain a copy of the provisional science assessment, the notice of final rulemaking, and other related documents.

1. Provisional Assessment of Recent Studies on Health Effects of Particulate Matter Exposure. This assessment, which was completed by EPA's NCEA in July 2006, evaluated studies published too late for inclusion in the final PM criteria document in the last review.

2. National Ambient Air Quality Standards for Particulate Matter: Final Rule (71 FR 61144, October 17, 2006). The preamble to the final rule included detailed discussions of policy-relevant issues central to the last review.

3. Materials from the December 2006 workshop entitled, “Interpretation of Epidemiologic Studies of Multi-pollutant Exposure and Health Effects.” The workshop dealt with important issues relevant to this review, such as the interpretation and understanding of criteria air pollutant health effects analyses in population-level epidemiologic studies, with a focus on multi-pollutant exposures (71 FR 67566, November 22, 2006).

Workshop participants are encouraged to review each of these documents and/or supporting materials thoroughly before the meeting begins, as they provide important insights into new scientific advances and key policy-relevant questions.

Based in large part on the input received during this workshop, EPA intends to develop a draft integrated PM NAAQS review plan that will outline the schedule, process, and approaches for evaluating the relevant scientific information and addressing the key policy-relevant issues to be considered in this review. The Clean Air Scientific Advisory Committee (CASAC) will be asked to conduct a consultation with the Agency on the draft integrated plan later this year, and the public will have the opportunity to comment on it as well. The final integrated plan will be used to frame each of the major elements of the PM review under the new NAAQS process: an integrated science assessment document, a risk/exposure assessment report, and a policy assessment to be published as an advance notice of proposed rulemaking (ANPR).

Dated: June 14, 2007.
P.W. Preuss,
Director, National Center for Environmental Assessment.

[FR Doc. E7-11957 Filed 6-19-07; 8:45 am]

BILLING CODE 6560-50-P